SUSQUEHANNA RIVER BASIN COMMISSION

Minor Modification Notice

AGENCY: Susquehanna River Basin Commission.

ACTION: Notice.

SUMMARY: This notice lists the minor modifications approved for previously approved projects by the Susquehanna River Basin Commission during the period set forth in DATES.

DATES: April 1-July 31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.gov. Regular mail inquiries may be sent to the above address.

SUPPLEMENTARY INFORMATION: This notice lists previously approved projects, receiving approval of minor modification or a corrective modification, described below, pursuant to 18 CFR 806.18 or to Commission Resolution Nos. 2013-11 and 2015-06, for the time period specified above.

1. Graymont (PA) Inc.—Pleasant Gap, Docket No. 20191203, Spring Township, Centre County, Pa.; correction in Section 2 to replace the “Gentzel Quarry” with the “Gentzel/Tressler Quarry”; Correction Issue Date: April 8, 2025.

2. Moxie Freedom LLC, Docket No. 20250618, Salem Township, Luzerne County, Pa.; modification approval to add public water supply as a source of water for consumptive use; Approval Date: June 17, 2025.

3. New Morgan Landfill Company, Inc.—Conestoga Landfill, Docket Nos. 20250619, 20250620, and 20250621, New Morgan Borough, Berks County, Pa.; modification of approvals to adjust the approval terms to align with another docket approval by the Commission; Approval Date: July 18, 2025.

Authority: Public Law 91-575, 84 Stat. 1509 et seq., 18 CFR parts 806 and 808.

Dated: August 11, 2025.
Jason E. Oyler,
General Counsel and Secretary to the Commission.

[FR Doc. 2025-15420 Filed 8-13-25; 8:45 am]

BILLING CODE 7040-01-P